NUCLEAR REGULATORY COMMISSION

[Docket Nos. 50-275 and 50-323]

Pacific Gas and Electric Company; Notice of Consideration of Issuance of Amendment to Facility Operating Licenses, Proposed No Significant Hazards Consideration Determination, and Opportunity for a Hearing

The U.S. Nuclear Regulatory Commission (the Commission) is considering issuance of an amendment to Facility Operating License Nos. DPR-80 and DPR-82 issued to Pacific Gas and Electric Company (the licensee) for operation of the Diablo Canyon Power Plant, Units 1 and 2, located in San Luis Obispo County, California.

The proposed amendment would revise several sections of the improved Technical Specification (ITS) to correct 20 editorial errors made in either (1) The application dated June 2, 1997 (and supplemental letters), for the ITS, or (2) the certified copy of the ITS that was submitted in the licensee's letters of May 19 and 27, 1999. The proposed amendment would also revise 11 instances of incorrect incorporation of the current Technical Specifications (CTS) into the ITS. The ITS were issued as License Amendments 135 and 135 dated May 28, 1999, and will be implemented by the licensee to replace the CTS by May 31, 2000.

Before issuance of the proposed license amendment, the Commission will have made findings required by the Atomic Energy Act of 1954, as amended (the Act) and the Commission's regulations.

The Commission has made a proposed determination that the amendment request involves no significant hazards consideration. Under the Commission's regulations in 10 CFR 50.92, this means that operation of the facility in accordance with the proposed amendment would not (1) Involve a significant increase in the probability or consequences of an accident previously evaluated; or (2) create the possibility of a new or different kind of accident from any accident previously evaluated; or (3) involve a significant reduction in a margin of safety. As required by 10 CFR 50.91(a), the licensee has provided its analysis of the issue of no significant hazards consideration, which is presented below:

1. The proposed change does not involve a significant increase in the probability or consequences of an accident previously evaluated.

The proposed elimination of the channel calibration for the turbine stop valve position switches will not change the probability or consequences of an accident previously evaluated since they are not subject to drift. Since the limit switches do not drift and therefore do not have a setpoint that can potentially change, the remaining verification of the trip actuation device operational test (TADOT) will provide all necessary assurances of Operability.

The proposed elimination of the TADOT for the auto stop oil pressure will not change the probability or consequences of an accident previously evaluated since the TADOT verifies the same requirements as the required channel calibration.

The proposed elimination of the requirement to calibrate the neutron wide range detectors will not change the probability or consequences of an accident previously evaluated since they are only used to monitor power following an accident. They provide no automatic control or actuation functions. Since an accident must first occur before these channels are used, this change can not increase the probability or consequences of an accident. Further, the necessary elements of the calibration for the channel and the detector will be accomplished through cross correlation similar to the power range detectors.

The remaining proposed changes are administrative in nature. They correct errors made while incorporating the current Technical Specifications (CTS) into the improved Technical Specifications (ITS), or errors made while creating the final copy of the ITS from the NRC reviewed mark-up of NUREG-1431. The proposed change of the Shift Supervisor title to Shift Manager is administrative since it does not decrease the responsibilities of the individual.

There are no hardware changes nor are there any changes in the method by which any safety-related plant system performs its safety function. The proposed changes are administrative.

Therefore, the proposed changes do not involve a significant increase in the probability or consequences of an accident previously evaluated.

2. The proposed change does not create the possibility of a new or different kind of accident from any accident previously evaluated.

The proposed elimination of the calibration for the turbine stop valve position switches will not create the possibility of a new or different kind of accident since they are not subject to drift. The remaining verification of the TADOT will provide all necessary assurances of operability.

The proposed elimination of the TADOT for the auto stop oil pressure will not create the possibility of a new or different kind of accident since this test will not evaluate anything not already verified by the required channel calibration.

The proposed elimination of the requirement to calibrate the neutron wide range detectors will not create the possibility of a new or different kind of accident since they are only used to monitor power following an accident. They provide no automatic control or actuation functions. Since an accident must first occur before these channels are used, this change can not cause a new or different type of an accident. Further, the necessary elements of the calibration for the channel and the detector will be accomplished through cross correlation similar to the power range detectors.

The remaining proposed changes are administrative in nature. They correct errors made while incorporating the CTS into the ITS, or errors made while creating the final copy of the ITS from the NRC reviewed mark-up of NUREG-1431. The proposed change of the Shift Supervisor title to Shift Manager is administrative since it does not decrease the responsibilities of the individual.

There are no hardware changes nor are there any changes in the method by which any safety-related plant system performs its safety function. The changes are administrative in nature so there are no new accident scenarios, transient precursors, failure mechanisms, or limiting single failures are introduced.

Therefore, the proposed change does not create the possibility of a new or different kind of accident from any previously evaluated.

3. The proposed change does not involve a significant reduction in a margin of safety.

The proposed elimination of the calibration for the turbine stop valve position switches will not reduce the margin of safety since they are not subject to drift. The remaining verification of the TADOT will provide all necessary assurances of operability.

The proposed elimination of the TADOT for the auto stop oil pressure will not reduce the margin of safety since this test will not evaluate anything not already verified by the channel calibration.

The proposed elimination of the requirement to calibrate the neutron wide range detectors will not reduce the margin of safety since they are only used to monitor power following an accident. They provide no automatic control or actuation functions. Since an accident must first occur before these channels are used, this change can not decrease the margin of safety. Further the necessary elements of the calibration for the channel and the detectors will be accomplished through cross correlation similar to the power range detectors.

The remaining proposed changes are administrative in nature. They correct errors made while incorporating the CTS into the ITS, or errors made while creating the final copy of the ITS from the NRC reviewed mark-up of NUREG-1431. The proposed change of the Shift Supervisor title to Shift Manager is administrative since it does not decrease the responsibilities of the individual.

The proposed changes do not affect the acceptance criteria for any analyzed event. There will be no effect on the manner in which safety limits or limiting safety system settings are determined nor will there be any effect on those plant systems necessary to assure the accomplishment of protection functions.

Therefore, the proposed changes do not involve a significant reduction in the margin of safety.

The NRC staff has reviewed the licensee's analysis and, based on this review, it appears that the three standards of 10 CFR 50.92(c) are satisfied. Therefore, the NRC staff proposes to determine that the amendment request involves no significant hazards consideration.

The Commission is seeking public comments on this proposed determination. Any comments received within 30 days after the date of publication of this notice will be considered in making any final determination.

Normally, the Commission will not issue the amendment until the expiration of the 30-day notice period. However, should circumstances change during the notice period such that failure to act in a timely way would result, for example, in derating or shutdown of the facility, the Commission may issue the license amendment before the expiration of the 30-day notice period, provided that its final determination is that the amendment involves no significant hazards consideration. The final determination will consider all public and State comments received. Should the Commission take this action, it will publish in the Federal Register a notice of issuance and provide for opportunity for a hearing after issuance. The Commission expects that the need to take this action will occur very infrequently.

Written comments may be submitted by mail to the Chief, Rules and Directives Branch, Division of Administrative Services, Office of Administration, U.S. Nuclear Regulatory Commission, Washington, DC 20555-0001, and should cite the publication date and page number of this Federal Register notice. Written comments may also be delivered to Room 6D59, Two White Flint North, 11545 Rockville Pike, Rockville, Maryland, from 7:30 a.m. to 4:15 p.m. Federal workdays. Copies of written comments received may be examined at the NRC Public Document Room, the Gelman Building, 2120 L Street, NW., Washington, DC.

The filing of requests for hearing and petitions for leave to intervene is discussed below.

By May 19, 2000, the licensee may file a request for a hearing with respect to issuance of the amendment to the subject facility operating license and any person whose interest may be affected by this proceeding and who wishes to participate as a party in the proceeding must file a written request for a hearing and a petition for leave to intervene. Requests for a hearing and a petition for leave to intervene shall be filed in accordance with the Commission's “Rules of Practice for Domestic Licensing Proceedings” in 10 CFR Part 2. Interested persons should consult a current copy of 10 CFR 2.714 which is available at the Commission's Public Document Room, the Gelman Building, 2120 L Street, NW., Washington, DC, and accessible electronically through the ADAMS Public Electronic Reading Room link at the NRC Web site (http://www.nrc.gov). If a request for a hearing or petition for leave to intervene is filed by the above date, the Commission or an Atomic Safety and Licensing Board, designated by the Commission or by the Chairman of the Atomic Safety and Licensing Board Panel, will rule on the request and/or petition; and the Secretary or the designated Atomic Safety and Licensing Board will issue a notice of hearing or an appropriate order.

As required by 10 CFR 2.714, a petition for leave to intervene shall set forth with particularity the interest of the petitioner in the proceeding, and how that interest may be affected by the results of the proceeding. The petition should specifically explain the reasons why intervention should be permitted with particular reference to the following factors: (1) The nature of the petitioner's right under the Act to be made party to the proceeding; (2) the nature and extent of the petitioner's property, financial, or other interest in the proceeding; and (3) the possible effect of any order which may be entered in the proceeding on the petitioner's interest. The petition should also identify the specific aspect(s) of the subject matter of the proceeding as to which petitioner wishes to intervene. Any person who has filed a petition for leave to intervene or who has been admitted as a party may amend the petition without requesting leave of the Board up to 15 days prior to the first prehearing conference scheduled in the proceeding, but such an amended petition must satisfy the specificity requirements described above.

Not later than 15 days prior to the first prehearing conference scheduled in the proceeding, a petitioner shall file a supplement to the petition to intervene which must include a list of the contentions which are sought to be litigated in the matter. Each contention must consist of a specific statement of the issue of law or fact to be raised or controverted. In addition, the petitioner shall provide a brief explanation of the bases of the contention and a concise statement of the alleged facts or expert opinion which support the contention and on which the petitioner intends to rely in proving the contention at the hearing. The petitioner must also provide references to those specific sources and documents of which the petitioner is aware and on which the petitioner intends to rely to establish those facts or expert opinion. Petitioner must provide sufficient information to show that a genuine dispute exists with the applicant on a material issue of law or fact. Contentions shall be limited to matters within the scope of the amendment under consideration. The contention must be one which, if proven, would entitle the petitioner to relief. A petitioner who fails to file such a supplement which satisfies these requirements with respect to at least one contention will not be permitted to participate as a party.

Those permitted to intervene become parties to the proceeding, subject to any limitations in the order granting leave to intervene, and have the opportunity to participate fully in the conduct of the hearing, including the opportunity to present evidence and cross-examine witnesses.

If a hearing is requested, the Commission will make a final determination on the issue of no significant hazards consideration. The final determination will serve to decide when the hearing is held.

If the final determination is that the amendment request involves no significant hazards consideration, the Commission may issue the amendment and make it immediately effective, notwithstanding the request for a hearing. Any hearing held would take place after issuance of the amendment.

If the final determination is that the amendment request involves a significant hazards consideration, any hearing held would take place before the issuance of any amendment.

A request for a hearing or a petition for leave to intervene must be filed with the Secretary of the Commission, U.S. Nuclear Regulatory Commission, Washington, DC 20555-0001, Attention: Rulemakings and Adjudications Staff, or may be delivered to the Commission's Public Document Room, the Gelman Building, 2120 L Street, NW., Washington, DC, by the above date. A copy of the petition should also be sent to the Office of the General Counsel, U.S. Nuclear Regulatory Commission, Washington, DC 20555-0001, and to Christopher J. Warner, Esq., Pacific Gas and Electric Company, P. O. Box 7442, San Francisco, California 94210, attorney for the licensee.

Nontimely filings of petitions for leave to intervene, amended petitions, supplemental petitions and/or requests for hearing will not be entertained absent a determination by the Commission, the presiding officer or the presiding Atomic Safety and Licensing Board that the petition and/or request should be granted based upon a balancing of the factors specified in 10 CFR 2.714(a)(1)(i)-(v) and 2.714(d).

For further details with respect to this action, see the application for amendment dated March 16, 2000, as supplemented by letter dated April 11, 2000, which are available for public inspection at the Commission's Public Document Room, the Gelman Building, 2120 L Street, NW., Washington, DC, and accessible electronically through the ADAMS Public Electronic Reading Room link at the NRC Web site (http://www.nrc.gov).

Dated at Rockville, Maryland, this 13th day of April 2000.
For the Nuclear Regulatory Commission.
Steven D. Bloom,
Project Manager, Section #2, Project Directorate IV and Decommissioning, Division of Licensing Project Management, Office of Nuclear Reactor Regulation.

[FR Doc. 00-9752 Filed 4-18-00; 8:45 am]

BILLING CODE 7590-01-P